NUCLEAR REGULATORY COMMISSION

Sunshine Federal Register Notice

AGENCY HOLDING THE MEETINGS: Nuclear Regulatory Commission, [NRC-2011-0006].

DATE: Weeks of October 17, 24, 31, November 7, 14, 21, 2011.

PLACE: Commissioners' Conference Room, 11555 Rockville Pike, Rockville, Maryland.

STATUS: Public and Closed.

Week of October 17, 2011

Tuesday, October 18, 2011

9 a.m. Briefing on Browns Ferry Unit 1 (Public Meeting). (Contact: Eugene Guthrie, 404-997-4662).

This meeting will be webcast live at the Web address— http://www.nrc.gov.

Thursday, October 20, 2011

1:30 p.m. NRC All Employees Meeting (Public Meeting). Marriott Bethesda North Hotel, 5701 Marinelli Road, Rockville, MD 20852.

Friday, October 21, 2011

9 a.m. Briefing on North Anna (Public Meeting). (Contact: Meena Khanna, 301-415-2150).

This meeting will be webcast live at the Web address— http://www.nrc.gov.

Week of October 24, 2011—Tentative

There are no meetings scheduled for the week of October 24, 2011.

Week of October 31, 2011—Tentative

Tuesday, November 1, 2011

9 a.m. Briefing on the Fuel Cycle Oversight Program (Public Meeting). (Contact: Margie Kotzalas, 301-492-3550).

This meeting will be webcast live at the Web address— http://www.nrc.gov.

Week of November 7, 2011—Tentative

There are no meetings scheduled for the week of November 7, 2011.

Week of November 14, 2011—Tentative

There are no meetings scheduled for the week of November 14, 2011.

Week of November 21, 2011—Tentative

There are no meetings scheduled for the week of November 21, 2011.

* The schedule for Commission meetings is subject to change on short notice. To verify the status of meetings, call (recording)—(301) 415-1292. Contact person for more information: Rochelle Bavol, (301) 415-1651.

The NRC Commission Meeting Schedule can be found on the Internet at: http://www.nrc.gov/public-involve/public-meetings/schedule.html.

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by e-mail at william.dosch@nrc.gov. Determinations on requests for reasonable accommodation will be made on a case-by-case basis.

This notice is distributed electronically to subscribers. If you no longer wish to receive it, or would like to be added to the distribution, please contact the Office of the Secretary, Washington, DC 20555 (301-415-1969), or send an e-mail to darlene.wright@nrc.gov.

Dated: October 13, 2011.
Rochelle Bavol,
Policy Coordinator, Office of the Secretary.

[FR Doc. 2011-27034 Filed 10-14-11; 4:15 pm]

BILLING CODE 7590-01-P